DEPARTMENT OF THE INTERIOR

National Park Service

Notice of Intent to Repatriate a Cultural Item: The Cleveland Museum of Natural History, Cleveland, OH

AGENCY: National Park Service, Interior.

ACTION: Notice.

Notice is here given in accordance with the Native American Graves Protection and Repatriation Act (NAGPRA), 25 U.S.C. 3005, of the intent to repatriate a cultural item in the possession of The Cleveland Museum of Natural History, Cleveland, OH, that meets the definition of a “sacred object” under 25 U.S.C. 3001.

This notice is published as part of the National Park Service's administrative responsibilities under NAGPRA, 25 U.S.C. 3003 (d)(3). The determinations in this notice are the sole responsibility of the museum, institution, or Federal agency that has control of the cultural item. The National Park Service is not responsible for the determinations in this notice.

The sacred object is a wooden pipe. In 1956, a pipe stem was delivered to the museum. The pipe bowl was either not sent or misplaced when unwrapped. Thus, only part of the sacred object is currently in the collection. The pipe stem measures 58 cm in length and has a black snake curling around it (Accession Number 1956-32; Catalog Number CMNH 08490). Since the bowl and stem are used together, together they comprise one object. Consequently, if the pipe bowl is found, it will be returned to the Little Traverse Bay Bands of Odawa Indians, Michigan.

The Little Traverse Bay Bands of Odawa Indians provided written evidence, A Survey of Indian Groups in the State of Michigan, (Holst, 1939), to show that Joe Shomin, an Odawa Chief, was an artist craftsman of great ability. According to catalogue records, Albert Heath acquired the pipe from Joe Shomin, an Odawa Indian, in Emmett County, MI. Today, Emmet County is within the Little Traverse Bay Bands of Odawa Indians reservation. Consultation evidence presented by tribal representatives' states that pipes were used in religious ceremonies by traditional Odawa religious leaders, and continue to be used in ceremonial practices.

Officials of The Cleveland Museum of Natural History have determined that, pursuant to 25 U.S.C. 3001 (3)(C), the one cultural item described above is a specific ceremonial object needed by traditional Native American religious leaders for the practice of traditional Native American religions by their present-day adherents. Officials of The Cleveland Museum of Natural History also have determined that, pursuant to 25 U.S.C. 3001 (2), there is a relationship of shared group identity that can be reasonably traced between the sacred object and the Little Traverse Bay Bands of Odawa Indians, Michigan.

Representatives of any other Indian tribe that believes itself to be culturally affiliated with the sacred object should contact Carole Camillo, Registrar, The Cleveland Museum of Natural History, 1 Wade Oval Dr., University Circle, Cleveland, OH 44106, telephone (216) 231-4600, before April 5, 2010. Repatriation of the sacred object to the Little Traverse Bay Bands of Odawa Indians, Michigan may proceed after that date if no additional claimants come forward.

The Cleveland Museum of Natural History is responsible for notifying the Little Traverse Bay Bands of Odawa Indians, Michigan that this notice has been published.

Dated: February 3, 2010.
Sherry Hutt,
Manager, National NAGPRA Program.

[FR Doc. 2010-4291 Filed 3-3-10; 8:45 am]

BILLING CODE 4312-50-S